DEPARTMENT OF THE INTERIOR

Geological Survey

Open Meeting of the Advisory Committee on Water Information (ACWI)

AGENCY: United States Geological Survey, Interior.

ACTION: Notice of an open meeting of the Advisory Committee on Water Information (ACWI).

SUMMARY: Notice is hereby given of a meeting of the ACWI. This meeting is to discuss broad policy-related topics relating to national water initiatives, and the development and dissemination of water information, through reports from ACWI subgroups. The agenda will include updates from ACWI's various subcommittees; a report on the 9th National Monitoring Conference, which was held earlier this year in Cincinnati, Ohio; a presentation of the water chapter of the Third National Climate Assessment; and a report on the Hydrologic Frequency Analysis Work Group's progress on revising Bulletin 17B, Guidelines For Determining Flood Flow Frequency.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will take place from 9:00 a.m. until 4:30 p.m. on August 19, 2014, and from 9:00 a.m. until 4:30 p.m. on August 20, 2014 (times are Eastern Daylight Time).

ADDRESSES: The meeting will be held in the auditorium of the U.S. Geological Survey National Center, located at 12201 Sunrise Valley Drive, Reston, Virginia 20192. The meeting will also be accessible by teleconference and WebEx. There will also be a teleconference line and a WebEx internet link available for the use of those who cannot attend in person. Information on the teleconference and WebEx will be available on the ACWI Web site: http://acwi.gov.

FOR FURTHER INFORMATION CONTACT: Ms. Wendy E. Norton, ACWI Executive Secretary and Chief, Water Information Coordination Program, U.S. Geological Survey, 12201 Sunrise Valley Drive, MS 417, Reston, VA 20192. Telephone 703-648-6810; Fax 703-648-5644; email wenorton@usgs.gov.

SUPPLEMENTARY INFORMATION: This meeting is open to the public. Up to a half hour will be set aside for public comment. Persons wishing to make a brief presentation (up to 5 minutes) are asked to provide a written request with a description of the general subject to Ms. Norton at the above address no later than July 31, 2012. It is requested that 65 copies of a written statement be submitted at the time of the meeting for distribution to members of the ACWI and placement in the official file. Any member of the public may submit written information and (or) comments to Ms. Norton for distribution at the ACWI meeting.

Wendy E. Norton,
Chief, Water Information Coordination Program.

[FR Doc. 2014-17799 Filed 7-28-14; 8:45 am]

BILLING CODE 4311-AM-P